DEPARTMENT OF HEALTH AND HUMAN SERVICES

National Institutes of Health

Center for Scientific Review; Amended Notice of Meeting

Notice is hereby given of a change in the meeting of the Psychosocial Risk and Disease Prevention Study Section, January 22, 2018, 08:00 a.m. to January 23, 2018, 06:00 p.m., Embassy Suites at the Chevy Chase Pavilion, 4300 Military Road NW, Washington, DC 20015 which was published in the Federal Register on December 21, 2017, V-82 Pg. 60614.

The meeting will be held on February 27, 2018, 8:00 a.m. to February 28, 2018, 6:00 p.m. at Hyatt Regency Bethesda, One Metro Center, Bethesda, MD 20814. The meeting is closed to the public.

Dated: January 26, 2018.
Sylvia L. Neal,
Program Analyst, Office of Federal Advisory Committee Policy.

[FR Doc. 2018-01926 Filed 1-30-18; 8:45 am]

BILLING CODE 4140-01-P